FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Ongoing Intermittent Survey of Households (FR 3016; OMB No. 7100-0150).

FOR FURTHER INFORMATION CONTACT:

Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority of the Extension for Three Years, With Revision, of the Following Information Collection

Collection title: Ongoing Intermittent Survey of Households.

Collection identifier: FR 3016.

OMB control number: 7100-0150.

Effective date: September 18, 2023.

General description of collection: The Ongoing Intermittent Survey of Households, the FR 3016, is a voluntary survey used by the Board to study consumer financial decisions, attitudes, and payment behavior.

Frequency: Monthly.

Respondents: Individuals.

Total estimated number of respondents: 600.

Total estimated change in burden: 39.

Total estimated annual burden hours: 199.¹

¹ More detailed information regarding this collection, including more detailed burden estimates, can be found in the OMB Supporting Statement posted at https://www.federalreserve.gov/apps/reportingforms/home/review. On the page displayed at the link, you can find the OMB Supporting Statement by referencing the collection identifier, FR 3016.

Current actions: On March 30, 2023, the Board published a notice in the Federal Register (88 FR 19145) requesting public comment for 60 days on the extension, with revision, of the FR 3016. The Board proposed adding one to two new questions to its portion (the FR 3016) of the Survey Research Center's monthly Survey of Consumer Attitudes and Expectations; the additional questions are expected to increase the average minutes per response to 19.8 annually. Additional burden was proposed to be added to the collection to reflect pretesting the new survey questions. The comment period for this notice expired on May 30, 2023. The Board did not receive any comments. The revisions will be implemented as proposed.

Board of Governors of the Federal Reserve System, July 13, 2023.
Erin Cayce,
Assistant Secretary of the Board.

[FR Doc. 2023-15241 Filed 7-18-23; 8:45 am]

BILLING CODE 6210-01-P